DEPARTMENT OF THE INTERIOR

Fish and Wildlife Service

[FWS-R6-ES-2013-N018; 60120-1113-0000-C2]

Endangered and Threatened Wildlife and Plants; Draft Revised Supplement to the Grizzly Bear Recovery Plan

AGENCY: Fish and Wildlife Service, Interior.

ACTION: Notice of document availability; request for comments.

SUMMARY: The U.S. Fish and Wildlife Service (Service) announces the availability of a draft Revised Supplement to the Grizzly Bear Recovery Plan. Specifically, this supplement proposes to revise the demographic recovery criteria for the Yellowstone Ecosystem. In the lower 48 States, Grizzly bears (Ursus arctos horribilis) are federally listed as threatened under the Endangered Species Act of 1973, as amended (Act). The Service solicits review and comment from the public on this draft revised plan.

DATES: Comments on the draft revised recovery plan must be received on or before May 21, 2013.

ADDRESSES: An electronic copy of the draft Revised Supplement to the Grizzly Bear Recovery Plan is available at http://www.fws.gov/endangered/species/recovery-plans.html. Hard copies of the draft revised demographic criteria are available by request from the Grizzly Bear Recovery Coordinator, U.S. Fish and Wildlife Service, University Hall, Room 309, University of Montana, Missoula, MT 59812; telephone 406-243-4903. Submit comments on the draft Revised Supplement to the Grizzly Bear Recovery Plan to the Grizzly Bear Recovery Coordinator at this same address.

FOR FURTHER INFORMATION CONTACT: Grizzly Bear Recovery Coordinator, at the above address, or telephone 406-243-4903.

SUPPLEMENTARY INFORMATION:

Background

Restoring an endangered or threatened animal or plant to the point where it is again a secure, self-sustaining member of its ecosystem is a primary goal of the Service's endangered species program. To help guide the recovery effort, the Service prepares recovery plans for the federally listed species native to the United States where a plan will promote the conservation of the species. Recovery plans describe site-specific actions necessary for the conservation of the species; establish objective, measurable criteria which, when met, would result in a determination that the species no longer needs the protection of the Act (16 U.S.C. 1531 et seq.); and provide estimates of the time and cost for implementing the needed recovery measures.

The Act requires recovery plans for listed species unless such a plan would not promote the conservation of a particular species. The original plan for the species was approved in 1982 and revised in 1993. In 2007, we formally supplemented the 1993 Grizzly Bear Recovery Plan with revised demographic criteria for the Greater Yellowstone Area population. Since that time, new information relevant to these demographic criteria has become available indicating that the current criteria no longer represent the best scientific approach to assess recovery of the Yellowstone grizzly bear population. Therefore, consistent with Task Y11 of the Grizzly Bear Recovery Plan, the Service is proposing additional revisions to the demographic criteria. For additional information about the revisions, see the draft Revised Supplement to the Grizzly Bear Recovery Plan available at http://www.fws.gov/endangered/species/recovery-plans.html (as described in the ADDRESSES section above).

Section 4(f) of the Act, as amended in 1988, requires that public notice and opportunity for public review and comment be provided during recovery plan development. The Service will consider all information received during a public comment period when preparing each new or revised recovery plan for approval. The Service and other Federal agencies also will take these comments into consideration in the course of implementing approved recovery plans. It is our policy to request peer review of recovery plans. We will summarize and respond to the issues raised by the public and peer reviewers in an appendix to the approved recovery plan.

Request for Public Comments

The Service solicits public comments on a draft Revised Supplement to the Grizzly Bear Recovery Plan. Specifically, this supplement proposes to revise the demographic recovery criteria for the Yellowstone Ecosystem. All comments received by the date specified in DATES will be considered prior to approval of the final Revised Supplement to the Grizzly Bear Recovery Plan. Written comments and materials regarding the plan should be addressed to the Grizzly Bear Recovery Coordinator (see ADDRESSES section). Comments and materials received will be available, by appointment, for public inspection during normal business hours at the above address. If you submit a comment that includes personal identifying information, you may request at the top of your document that we withhold this information from public review. However, we cannot guarantee that we will be able to do so.

Authority

The authority for this action is section 4(f) of the Endangered Species Act, 16 U.S.C. 1533(f).

Dated: February 19, 2013.
Noreen E. Walsh,
Regional Director, Denver, Colorado.

[FR Doc. 2013-06612 Filed 3-21-13; 8:45 am]

BILLING CODE 4310-55-P